DEPARTMENT OF ENERGY

Federal Energy Regulatory Commission

Combined Notice of Filings #1

Take notice that the Commission received the following electric corporate filings:

Docket Numbers: EC17-103-000.

Applicants: Elgin Energy Center, LLC, Rocky Road Power, LLC, Tilton Energy LLC.

Description: Application of Elgin Energy Center, LLC, et al. for Approval Pursuant to Section 203 of the Federal Power Act, Requests For Waivers, Privileged Treatment and Expedited Consideration.

Filed Date: 4/12/17.

Accession Number: 20170412-5292.

Comments Due: 5 p.m. ET 5/3/17.

Docket Numbers: EC17-104-000.

Applicants: Playa Solar 1, LLC, Playa Solar 2, LLC.

Description: Application for Authorization Under Section 203 of the Federal Power Act and Request for Expedited Action, Confidential Treatment, and Waivers of Playa Solar 1, LLC, et. al.

Filed Date: 4/13/17.

Accession Number: 20170413-5122.

Comments Due: 5 p.m. ET 5/4/17.

Take notice that the Commission received the following electric rate filings:

Docket Numbers: ER14-1883-003.

Applicants: Allegheny Energy Supply Company, LLC.

Description: Compliance filing: Supp. to 3/8/17 Informational Filing and baseline eTariff sheet [from ER06-888] to be effective N/A.

Filed Date: 4/13/17.

Accession Number: 20170413-5227.

Comments Due: 5 p.m. ET 5/4/17.

Docket Numbers: ER17-1069-002.

Applicants: Mid-Atlantic Interstate Transmission, LL, PJM Interconnection, L.L.C.

Description: Tariff Amendment: MAIT submits Amendment to Operating and Interconnection Agreement SA No. 4578 to be effective 2/1/2017.

Filed Date: 4/13/17.

Accession Number: 20170413-5233.

Comments Due: 5 p.m. ET 5/4/17.

Docket Numbers: ER17-1151-000.

Applicants: ADG Group Inc.

Description: Supplement to March 10, 2017 ADG Group Inc. tariff filing.

Filed Date: 4/13/17.

Accession Number: 20170413-5184.

Comments Due: 5 p.m. ET 5/4/17.

Docket Numbers: ER17-1413-000.

Applicants: Southwest Power Pool, Inc.

Description: § 205(d) Rate Filing: Release of Unscheduled Firm Transmission Service to be effective 6/12/2017.

Filed Date: 4/13/17.

Accession Number: 20170413-5105.

Comments Due: 5 p.m. ET 5/4/17.

Docket Numbers: ER17-1414-000.

Applicants: DTE Electric Company.

Description: § 205(d) Rate Filing: Reactive Revenue Requirement Update to be effective 5/1/2017.

Filed Date: 4/13/17.

Accession Number: 20170413-5125.

Comments Due: 5 p.m. ET 5/4/17.

Docket Numbers: ER17-1415-000.

Applicants: Osprey Energy Center, LLC.

Description: Tariff Cancellation: Notice of Cancellation to be effective 12/31/9998.

Filed Date: 4/13/17.

Accession Number: 20170413-5153.

Comments Due: 5 p.m. ET 5/4/17.

Docket Numbers: ER17-1416-000.

Applicants: PJM Interconnection, L.L.C.

Description: § 205(d) Rate Filing: Original ISA, Service Agreement No. 4666, Queue No. Z2-038 to be effective 3/15/2017.

Filed Date: 4/13/17.

Accession Number: 20170413-5154.

Comments Due: 5 p.m. ET 5/4/17.

Docket Numbers: ER17-1417-000.

Applicants: Virginia Electric and Power Company, PJM Interconnection, L.L.C.

Description: § 205(d) Rate Filing: VEPCo submits revisions to OATT, Attach. H-16C to update 2016 OPEB Expense to be effective 6/14/2017.

Filed Date: 4/13/17.

Accession Number: 20170413-5181.

Comments Due: 5 p.m. ET 5/4/17.

Docket Numbers: ER17-1418-000.

Applicants: Southern California Edison Company.

Description: § 205(d) Rate Filing: GIA and Distribution Service Agreement R&L Capital, Inc. to be effective 4/14/2017.

Filed Date: 4/13/17.

Accession Number: 20170413-5194.

Comments Due: 5 p.m. ET 5/4/17.

Docket Numbers: ER17-1419-000.

Applicants: MAG Energy Solutions Inc.

Description: § 205(d) Rate Filing: Normal update filing 2017 to be effective 5/1/2017.

Filed Date: 4/13/17.

Accession Number: 20170413-5236.

Comments Due: 5 p.m. ET 5/4/17.

Take notice that the Commission received the following electric securities filings:

Docket Numbers: ES17-17-000.

Applicants: DTE Electric Company.

Description: Application for Authorization of the issuance of securities of DTE Electric Company.

Filed Date: 4/13/17.

Accession Number: 20170413-5183.

Comments Due: 5 p.m. ET 5/4/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2017.
Kimberly D. Bose,
Secretary.

[FR Doc. 2017-07969 Filed 4-19-17; 8:45 am]

BILLING CODE 6717-01-P